SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(e)

1. Pennsylvania Department of Corrections—State Correctional Institution at Smithfield; ABR-202110002, Smithfield Township, Huntingdon County, Pa.; Consumptive use of up to 0.150 mgd; Approval Date: October 14, 2021.

Water Source Approval—Issued Under 18 CFR 806.22(f)

1. Cabot Oil & Gas Corporation; Pad ID: Westholme Energy LLC P1; ABR-202110001; Springville Township, Susquehanna County, Pa.; Consumptive Use of Up to 5.0000 mgd; Approval Date: October 4, 2021.

2. Repsol Oil & Gas USA, LLC; Pad ID: DCNR 587 (02 011); ABR-201106029.R2; Ward Township, Tioga County, Pa.; Consumptive Use of Up to 6.0000 mgd; Approval Date: October 17, 2021.

3. Chief Oil & Gas, LLC.; Pad ID: Brule; ABR-201110005.R2; Elkland Township, Sullivan County, Pa.; Consumptive Use of Up to 7.5000 mgd; Approval Date: October 17, 2021.

4. SWN Production Company, LLC; Pad ID: Zeffer Pad; ABR-201108029.R2; New Milford Township, Susquehanna County; Pa.; Consumptive Use of Up to 4.9990 mgd; Approval Date: October 17, 2021.

5. SWN Production Company, LLC; Pad ID: Scott Pad; ABR-201108030.R2; New Milford Township, Susquehanna County; Pa.; Consumptive Use of Up to 4.9990 mgd; Approval Date: October 17, 2021.

6. EQT ARO LLC; Pad ID: Michael R Fulkerson Pad A; ABR-201008116.R2; Cogan House Township, Lycoming County, Pa.; Consumptive Use of Up to 4.0000 mgd; Approval Date: October 17, 2021.

7. Chief Oil & Gas, LLC.; Pad ID: Squier B Drilling Pad #1; ABR-201110007.R2; Springville Township, Susquehanna County, Pa.; Consumptive Use of Up to 2.0000 mgd; Approval Date: October 20, 2021.

8. Seneca Resources Company, LLC; Pad ID: GHC Pad A; ABR-201009012.R2; Lawrence Township, Clearfield County, Pa.; Consumptive Use of Up to 4.0000 mgd; Approval Date: October 20, 2021.

9. SWN Production Company, LLC; Pad ID: Roman Pad; ABR-201108021.R2; New Milford Township, Susquehanna County, Pa.; Consumptive Use of Up to 4.9990 mgd; Approval Date: October 20, 2021.

10. EQT ARO LLC; Pad ID: Mac Pad A; ABR-201508001.R1; Cascade Township, Lycoming County, Pa.; Consumptive Use of Up to 4.0000 mgd; Approval Date: October 20, 2021.

11. SWN Production Company, LLC; Pad ID: Robinson Well Pad; ABR-201109009.R2; Liberty Township, Susquehanna County; Pa.; Consumptive Use of Up to 4.9990 mgd; Approval Date: October 20, 2021.

12. SWN Production Company, LLC; Pad ID: Carty-Wiseman Well Pad; ABR-201109006.R2; Liberty Township, Susquehanna County; Pa.; Consumptive Use of Up to 4.9990 mgd; Approval Date: October 20, 2021.

13. Seneca Resources Company, LLC; Pad ID: PHC 2H; ABR-201509002.R1; Lawrence Township, Clearfield County, Pa.; Consumptive Use of Up to 4.0000 mgd; Approval Date: October 22, 2021.

14. SWN Production Company, LLC; Pad ID: Grizzanti Pad; ABR-201108023.R2; New Milford Township, Susquehanna County; Pa.; Consumptive Use of Up to 4.9990 mgd; Approval Date: October 22, 2021.

15. SWN Production Company, LLC; Pad ID: Kass North Well Pad; ABR-201109007.R2; New Milford Township, Susquehanna County; Pa.; Consumptive Use of Up to 4.9990 mgd; Approval Date: October 22, 2021.

16. EQT ARO LLC; Pad ID: COP Tract 731 Pad D; ABR-201109017.R2; Cummings Township, Lycoming County, Pa.; Consumptive Use of Up to 4.0000 mgd; Approval Date: October 22, 2021.

17. EQT ARO LLC; Pad ID: COP Tract 685 Pad B; ABR-201109022.R2; Cummings Township, Lycoming County, Pa.; Consumptive Use of Up to 4.0000 mgd; Approval Date: October 22, 2021.

18. EXCO Resources (PA), LLC; Pad ID: Poor Shot East Unit Drilling Pad #1; ABR-20091002.R2; Anthony Township, Lycoming County, Pa.; Consumptive Use of Up to 5.0000 mgd; Approval Date: October 22, 2021.

19. Cabot Oil & Gas Corporation; Pad ID: GuitonP P1; ABR-202110003; Middletown Township, Susquehanna County, Pa.; Consumptive Use of Up to 5.0000 mgd; Approval Date: October 25, 2021.

20. Pennsylvania General Energy Company, L.L.C.; Pad ID: COP Tract 293 Pad G; ABR-201109005.R2; McHenry Township, Lycoming County, Pa.; Consumptive Use of Up to 3.5000 mgd; Approval Date: October 25, 2021.

21. Chesapeake Appalachia L.L.C.; Pad ID: Donovan; ABR-201110016.R2; Ulster Township, Bradford County, Pa.; Consumptive Use of Up to 7.5000 mgd; Approval Date: October 25, 2021.

22. Repsol Oil & Gas USA, LLC; Pad ID: DCNR 594 (02 203); ABR-201008042.R2; Liberty Township, Tioga County, Pa.; Consumptive Use of Up to 6.0000 mgd; Approval Date: October 25, 2021.

23.Seneca Resources Company, LLC; Pad ID: COP Pad P; ABR-201009038.R2; Lawrence Township, Clearfield County, Pa.; Consumptive Use of Up to 4.0000 mgd; Approval Date: October 25, 2021.

24. EQT ARO LLC; Pad ID: COP Tr 289 Pad E; ABR-20109048.R2; McHenry Township, Lycoming County, Pa.; Consumptive Use of Up to 4.0000 mgd; Approval Date: October 25, 2021.

25. EQT ARO LLC; Pad ID: Lycoming H&FC Pad A; ABR-201109023.R2; Cogan House Township, Lycoming County, Pa.; Consumptive Use of Up to 4.0000 mgd; Approval Date: October 25, 2021.

26. EQT ARO LLC; Pad ID:COP Tr 290 Pad A; ABR-201009043.R2; McHenry Township, Lycoming County, Pa.; Consumptive Use of Up to 4.0000 mgd; Approval Date: October 25, 2021.

27. Seneca Resources Company, LLC; Pad ID: Soderberg 501; ABR-20091004.R2; Sullivan Township, Tioga County, Pa.; Consumptive Use of Up to 4.0000 mgd; Approval Date: October 26, 2021.

28. EQT ARO LLC; Pad ID: Lycoming H&FC Pad C; ABR-201109003.R2; Cogan House Township, Lycoming County, Pa.; Consumptive Use of Up to 4.0000 mgd; Approval Date: October 26, 2021.

29. EQT ARO LLC; Pad ID: COP 731 Pad E; ABR-201109021.R2; Cummings Township, Lycoming County, Pa.; Consumptive Use of Up to 4.0000 mgd; Approval Date: October 26, 2021.

30. EQT ARO LLC; Pad ID: Lycoming H&FC Pad B; ABR-201009099.R2; Cogan House Township, Lycoming County, Pa.; Consumptive Use of Up to 4.0000 mgd; Approval Date: October 26, 2021.

31. JKLM Energy, LLC; Pad ID: Headwaters 143; ABR-201604002.R1; Ulysses Township, Potter County, Pa.; Consumptive Use of Up to 7.0000 mgd; Approval Date: October 28, 2021.

32. Chesapeake Appalachia, L.L.C.; Pad ID: Gardner; ABR-201110020.R2; Albany Township, Bradford County, Pa.; Consumptive Use of Up to 7.5000 mgd; Approval Date: October 28, 2021.

33. Seneca Resources Company, LLC; Pad ID: Howe 257; ABR-20091008.R2; Jackson Township, Tioga County, Pa.; Consumptive Use of Up to 4.0000 mgd; Approval Date: October 28, 2021.

34. Cabot Oil & Gas Corporation; Pad ID: FrystakC P1; ABR-201109027.R2; Bridgewater Township, Susquehanna County, Pa.; Consumptive Use of Up to 5.0000 mgd; Approval Date: October 28, 2021.

35. BKV Operating, LLC; Pad ID: McConnell 1; ABR-201110003.R2; Tunkhannock Township, Wyoming County, Pa.; Consumptive Use of Up to 5.0000 mgd; Approval Date: October 28, 2021.

36. Blackhill Energy LLC; Pad ID: FAY 1H ABR-201107019.R2; Ridgebury Township, Bradford County, Pa.; Consumptive Use of Up to 4.9900 mgd; Approval Date: October 28, 2021.

37. Seneca Resources Company, LLC; Pad ID: Bryan 406; ABR-20091011.R2; Jackson Township, Tioga County, Pa.; Consumptive Use of Up to 4.0000 mgd; Approval Date: October 28, 2021.

38. Repsol Oil & Gas USA, LLC; Pad ID: DCNR 587 (02 010); ABR-201108002.R2; Ward Township, Tioga County, Pa.; Consumptive Use of Up to 6.0000 mgd; Approval Date: October 29, 2021.

39. JKLM Energy, LLC; Pad ID: Headwaters 145; ABR-201608001.R1; Ulysses Township, Potter County, Pa.; Consumptive Use of Up to 3.1250 mgd; Approval Date: October 29, 2021.

40. ARD Operating, LLC; Pad ID: Lycoming H&FC Pad D; ABR-201109024.R2; Cogan House Township, Lycoming County, Pa.; Consumptive Use of Up to 4.0000 mgd; Approval Date: October 29, 2021.

41. Chesapeake Appalachia, L.L.C.; Pad ID: Nicholson; ABR-201110022.R2; Nicholson Township, Wyoming County, Pa.; Consumptive Use of Up to 7.5000 mgd; Approval Date: October 29, 2021.

Dated: November 8, 2021.
Jason E. Oyler,
General Counsel and Secretary to the Commission.

[FR Doc. 2021-24709 Filed 11-10-21; 8:45 am]

BILLING CODE 7040-01-P